DEPARTMENT OF TRANSPORTATION

Federal Aviation Administration

14 CFR Parts 1, 21, 25, 33, 121, 135

[Docket No. FAA-2002-6717; Notice No. 03-11]

RIN 2120-AI03

Extended Operations (ETOPS) of Multi-Engine Airplanes; Correction

AGENCY: Federal Aviation Administration (FAA), DOT.

ACTION: Proposed rule; correction.

SUMMARY: This document makes corrections to the proposed rule published in the Federal Register on November 14, 2003 (68 FR 64730), which proposes to issue regulations governing the design, maintenance, and operation of airplanes and engines for flights that go beyond certain distances from an adequate airport.

FOR FURTHER INFORMATION CONTACT: Eric vanOpstal, (202) 267-3774; or E-mail: eric.vanopstal@faa.gov.

Correction

In proposed rule FR Doc. 03-28407, published on November 14, 2003 (68 FR 64730), make the following corrections:

1. On page 64791, in the first column, in § 121.7 correct the definition of ETOPS area of operation by removing paragraphs (2)(i) and (2)(ii) and renumbering paragraphs (2)(iii) and (2)(iv) as (2)(i) and (2)(ii), respectively.

2. On page 64791, in the second column, in § 121.7 following the definition of Maximum diversion time, add definitions for NOPAC and North Pacific to read as follows:

* * * * *

NOPAC means the North Pacific Air Traffic Service (ATS) routes and adjacent airspace between Anchorage and Tokyo Flight Information Region.

North Pacific means the Pacific Ocean areas north of 40°N latitudes including NOPAC ATS routes, and published PACOTS (Pacific organized track system) tracks between Japan and North America.

* * * * *

Issued in Washington, DC on November 14, 2003.
Richard D. McCurdy,
Acting Assistant Chief Counsel for Regulations.

[FR Doc. 03-28887 Filed 11-14-03; 1:42 pm]

BILLING CODE 4910-13-P